DEPARTMENT OF JUSTICE

Drug Enforcement Administration

Mark C. Evans, D.D.S.; Revocation of Registration

Procedural History

On June 24, 2004, the Deputy Assistant Administrator, Office of Diversion Control, Drug Enforcement Administration (DEA), issued an Order to Show Cause to Mark C. Evans, D.D.S. (Respondent). The Show Cause Order proposed the revocation of Respondent's DEA Certificate of Registration, BE3323932, under 21 U.S.C. 824(a)(3), and to deny any pending applications for renewal or modification of that registration pursuant to 21 U.S.C. 823(f). As grounds for the action, the Show Cause Order alleged that the Dental Board of California had revoked Dr. Evans's state dental license, and as a result, he was without state authorization to handle controlled substances in that state. The Show Cause Order notified Dr. Evans that should no request for a hearing be filed within 30 days, his hearing right would be deemed waived.

On July 2, 2004, the Show Cause Order was sent by certified mail to Dr. Evans at his registered location in Palm Desert, California. On that same date, a second copy of the Show Cause Order was sent by certified mail to Dr. Evans at a second location in La Quinta, California. Both copies were subsequently returned to DEA unclaimed. DEA subsequently attempted to send the Show Cause Order to Dr. Evans at two additional locations in Palm Desert, as well as a location in Vancouver, Washington. On each occasion, the orders were returned unclaimed. As of this date, DEA has not received a request for a hearing, or any other reply from Dr. Evans or anyone purporting to represent him in this matter.

Therefore, the Deputy Administrator, finding that (1) thirty days have passed since the attempted delivery of the Show Cause Order to the registrant's addresses of record, as well as to several additional addresses, and (2) that no request for a hearing has been received, concludes that Dr. Evans has waived his hearing right. See David W. Linder, 67 FR 12579 (2002). After considering material from the investigative file in this matter, the Deputy Administrator now enters this final order without a hearing pursuant to 21 CFR 1301.43(d) and (e), and § 1301.46.

Discussion

The Deputy Administrator finds that Dr. Evans is currently registered with DEA as a practitioner authorized to handle controlled substances in Schedules II through V. According to information in the investigative file, DEA was notified by the Dental Board of California (the Dental Board) that Dr. Evans's state dental license was revoked effective December 18, 2002. This information is corroborated by a Default Decision and Order of the Dental Board, which is included in the investigative file. There is no evidence before the Deputy Administrator that Dr. Evans's California dental license has been reinstated or that the Dental Board's revocation order has been vacated. Therefore, the Deputy Administrator finds that because Dr. Evans is currently not authorized to practice dentistry in California, he is not authorized to handle controlled substances in that state.

DEA does not have statutory authority under the Controlled Substances Act to issue or maintain a registration if the applicant or registrant is without state authority to handle controlled substances in the state in which he practices dentistry. See 21 U.S.C. 802(21), 823(f) and 824(a)(3). This prerequisite has been consistently applied. See James Marvin Goodrich, M.D., 70 FR 24619 (2005); Dominick A. Ricci, M.D., 58 FR 51104 (1993); Bobby Watts, M.D., 53 FR 11919 (1988).

Here, it is clear that Dr. Evans's dental license has been revoked and the revocation order has not been vacated. Consequently, Dr. Evans is not licensed to handle controlled substances in California, the jurisdiction in which he is registered with DEA. Therefore, he is not entitled to maintain that registration.

Order

The Deputy Administrator of the Drug Enforcement Administration, pursuant to the authority vested in her by 21 U.S.C. 823 and 824 and 28 CFR 0.100(b) and 0.104, hereby orders that DEA Certificate of Registration, BE3323932, issued to Mark C. Evans, D.D.S, be, and it hereby is, revoked. The Deputy Administrator further orders that any pending applications for renewal or modification of the aforementioned registration be, and they hereby are, denied. This order is effective July 21, 2006.

Dated: June 12, 2006.
Michele M. Leonhart,
Deputy Administrator.

[FR Doc. E6-9708 Filed 6-20-06; 8:45 am]

BILLING CODE 4410-09-P